DEPARTMENT OF VETERANS AFFAIRS

Advisory Committee on Women Veterans; Notice of Meeting

The Department of Veterans Affairs (VA) gives notice under Public Law 92-463 (Federal Advisory Committee Act) that the Advisory Committee on Women Veterans will conduct a site visit on June 8-12, 2009, at the VA North Texas Health Care System (VANTHCS), 4500 South Lancaster Road, Dallas, Texas. Several sessions during the site visit will be held at the Dallas-Fort Worth National Cemetery, Sam Rayburn Memorial Veterans Center in Bonham, and the Clyde W. Cosper State Veterans Home in Bonham. Sessions each day during the site visit will be open to the public, will begin at 8:30 a.m. and will end at 4:30 p.m.

The purpose of the Committee is to advise the Secretary of Veterans Affairs regarding the needs of women Veterans with respect to health care, rehabilitation, compensation, outreach, and other programs and activities administered by VA designed to meet such needs. The Committee makes recommendations to the Secretary regarding such programs and activities.

On June 8, the agenda will include briefings from VA Heart of Texas Health Care Network (VISN 17) leadership, VISN 17 women Veterans program managers, VANTHCS leadership, and the director of the Waco Regional Office. On June 9, the Committee will receive briefings from VANTHCS program offices (primary care, women's health clinic, medical services, surgical services, long term care/hospice, radiology, mental health services and OEF/OIF services). The Committee will also be briefed by the National Cemetery Administration leadership, and will tour the Dallas-Fort Worth National Cemetery. On June 10, the Committee will meet at the Sam Rayburn Memorial Veterans Center (SRMVC) in Bonham, receive briefings from SRMVC leadership and officials of the Clyde W. Cosper State Veterans Home, along with tours of the SRMVC facilities and the Clyde W. Cosper State Veterans Home. On June 11, the Committee will receive briefings from local vet centers and will tour the VANTHCS hospital. On June 12, the Committee will meet with Dallas-Fort Worth area Veterans service organizations and other stakeholders, and conduct a town hall meeting with the women Veterans community.

Any member of the public wishing to attend should contact Ms. Shannon L. Middleton at the Department of Veterans Affairs, Center for Women Veterans (00W), 810 Vermont Avenue, NW., Washington, DC 20420, by phone at (202) 461-6193, fax at (202) 273-7092, or e-mail at 00W@mail.va.gov. Interested persons may attend, appear before, or file statements with the Committee. Written statements must be filed before the meeting, or within 10 days after the meeting.

Dated: May 14, 2009.
By Direction of the Secretary.
E. Philip Riggin,
Committee Management Officer.

[FR Doc. E9-11844 Filed 5-20-09; 8:45 am]

BILLING CODE 8320-01-P